DEPARTMENT OF STATE

[Public Notice: 12900]

Specially Designated Global Terrorist Designations of Lebanese Muslim Brotherhood and Muhammad Faqzi Taqqosh

Acting under the authority of and in accordance with section 1(a)(ii)(A) of Executive Order 13224, as amended (“E.O. 13224” or “Order”), I hereby determine that the person known as Lebanese Muslim Brotherhood (also known as al-Jamaa al-Islamiyah, Jamaa Islamiya, al-Jamaah al-Islamiyah, Jama'a Islamiyah, Jamaa Islamiyah, The Islamic Group, Islamic Group in Lebanon, al-Fajr Forces, The Fajr Forces, al-Fajer Forces, The Dawn Forces, Quwat al-Fajr) is a foreign person who has committed or has attempted to commit, poses a significant risk of committing, or has participated in training to commit acts of terrorism that threaten the security of U.S. nationals or the national security, foreign policy, or economy of the United States.

Additionally, acting under the authority of and in accordance with section 1(a)(ii)(B)(2) of E.O. 13224, I hereby determine that the person known as Muhammad Fawzi Taqqosh (also known as Mohammad Takkoush, Mohammed Takkoush, Muhammad Takush, Muhammad Taqush) is a foreign person who is a leader of Lebanese Muslim Brotherhood, an entity whose property and interests in property are blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This determination shall be published in the Federal Register.

Dated: December 19, 2025.
Marco Rubio,
Secretary of State.

[FR Doc. 2026-00571 Filed 1-13-26; 8:45 am]

BILLING CODE 4710-AD-P